DEPARTMENT OF HEALTH AND HUMAN SERVICES

Centers for Medicare & Medicaid Services

42 CFR Part 484

[CMS-1265-CN]

RIN 0938-AM93

Medicare Program; Home Health Prospective Payment System Rate Update for Calendar Year 2005; Correction Notice

AGENCY: Centers for Medicare & Medicaid Services (CMS), HHS.

ACTION: Proposed rule; correction.

SUMMARY: This document corrects technical errors that appeared in the proposed rule published in the Federal Register on June 2, 2004 entitled “Medicare Program; Home Health Prospective Payment System Rate Update for Calendar Year 2005.”

FOR FURTHER INFORMATION CONTACT: Randy Throndset, (410) 786-0131.

SUPPLEMENTARY INFORMATION:

I. Background

In FR Doc. 04-12314 of June 2, 2004 (69 FR 31248), we inadvertently published the 2004 pre-floor and pre-reclassified wage index tables instead of the intended 2005 pre-floor and pre-reclassified wage index tables.

The technical errors are identified and corrected in the Correction of Errors section below.

II. Correction of Errors

In FR Doc. 04-12314 of June 2, 2004 (69 FR 31248), replace the erroneous tables for Addenda A, B, and C on pages 31262-31275 with the following:

Addendum A.—Proposed Wage Index for Rural Areas—Applicable Pre-Floor and Pre-Reclassified Hospital Wage Index (CY 2005)
MSA name | Wage index
ALABAMA | 0.7637
ALASKA | 1.1637
ARIZONA | 0.9140
ARKANSAS | 0.7704
CALIFORNIA | 1.0297
COLORADO | 0.9368
CONNECTICUT | 1.1586
DELAWARE | 0.9504
FLORIDA | 0.8789
GEORGIA | 0.8247
GUAM | 0.9611
HAWAII | 1.0522
IDAHO | 0.8826
ILLINOIS | 0.8341
INDIANA | 0.8736
IOWA | 0.8550
KANSAS | 0.8088
KENTUCKY | 0.7844
LOUISIANA | 0.7291
MAINE | 0.9039
MARYLAND | 0.9179
MASSACHUSETTS | 1.0217
MICHIGAN | 0.8741
MINNESOTA | 0.9339
MISSISSIPPI | 0.7583
MISSOURI | 0.7829
MONTANA | 0.8701
NEBRASKA | 0.9035
NEVADA | 0.9833
NEW HAMPSHIRE | 0.9940
NEW JERSEY ¹ |
NEW MEXICO | 0.8529
NEW YORK | 0.8403
NORTH CAROLINA | 0.8501
NORTH DAKOTA | 0.7743
OHIO | 0.8760
OKLAHOMA | 0.7537
OREGON | 1.0050
PENNSYLVANIA | 0.8348
PUERTO RICO | 0.4047
RHODE ISLAND ¹ |
SOUTH CAROLINA | 0.8640
SOUTH DAKOTA | 0.8393
TENNESSEE | 0.7876
TEXAS | 0.7910
UTAH | 0.8843
VERMONT | 0.9375
VIRGINIA | 0.8480
VIRGIN ISLANDS | 0.7457
WASHINGTON | 1.0072
WEST VIRGINIA | 0.8084
WISCONSIN | 0.9498
WYOMING | 0.9182
¹ All counties within State are classified as Urban

Addendum B.—Proposed CY 2005 Wage Index for Urban Areas—Pre-Floor and Pre-Reclassified Hospital Wage Index
MSA | Urban area (constituent counties) | Wage index
0040 | Abilene, TX | 0.8009
| Taylor, TX
0060 | Aguadilla, PR | 0.4294
| Aguada, PR
| Aguadilla, PR
| Moca, PR
0080 | Akron, OH | 0.9055
| Portage, OH
| Summit, OH
0120 | Albany, GA | 1.1266
| Dougherty, GA
| Lee, GA
0160 | Albany-Schenectady-Troy, NY | 0.8570
| Albany, NY
| Montgomery, NY
| Rensselaer, NY
| Saratoga, NY
| Schenectady, NY
| Schoharie, NY
0200 | Albuquerque, NM | 1.0485
| Bernalillo, NM
| Sandoval, NM
| Valencia, NM
0220 | Alexandria, LA | 0.8171
| Rapides, LA
0240 | Allentown-Bethlehem-Easton, PA | 0.9536
| Carbon, PA
| Lehigh, PA
| Northampton, PA
0280 | Altoona, PA | 0.8462
| Blair, PA
0320 | Amarillo, TX, Potter, TX | 0.9178
| Randall, TX
0380 | Anchorage, AK | 1.2109
| Anchorage, AK
0440 | Ann Arbor, MI | 1.0817
| Lenawee, MI
| Livingston, MI
| Washtenaw, MI
0450 | Anniston, AL | 0.7881
| Calhoun, AL
0460 | Appleton-Oshkosh-Neenah, WI | 0.9115
| Calumet, WI
| Outagamie, WI
| Winnebago, WI
0470 | Arecibo, PR | 0.3757
| Arecibo, PR
| Camuy, PR
| Hatillo, PR
0480 | Asheville, NC | 0.9502
| Buncombe, NC
| Madison, NC
0500 | Athens, GA | 1.0203
| Clarke, GA
| Madison, GA
| Oconee, GA
0520 | Atlanta, GA | 0.9971
| Barrow, GA
| Bartow, GA
| Carroll, GA
| Cherokee, GA
| Clayton, GA
| Cobb, GA
| Coweta, GA
| DeKalb, GA
| Douglas, GA
| Fayette, GA
| Forsyth, GA
| Fulton, GA
| Gwinnett, GA
| Henry, GA
| Newton, GA
| Paulding, GA
| Pickens, GA
| Rockdale, GA
| Spalding, GA
| Walton, GA
0560 | Atlantic-Cape May, NJ | 1.0907
| Atlantic, NJ
| Cape May, NJ
0580 | Auburn-Opelka, AL | 0.8215
| Lee, AL
0600 | Augusta-Aiken, GA-SC | 0.9208
| Columbia, GA
| McDuffie, GA
| Richmond, GA
| Aiken, SC
| Edgefield, SC
0640 | Austin-San Marcos, TX | 0.9596
| Bastrop, TX
| Caldwell, TX
| Hays, TX
| Travis, TX
| Williamson, TX
0680 | Bakersfield, CA | 1.0036
| Kern, CA
0720 | Baltimore, MD | 0.9908
| Anne Arundel, MD
| Baltimore City, MD
| Carroll, MD
| Harford, MD
| Howard, MD
| Queen Annes, MD
0733 | Bangor, ME | 0.9955
| Penobscot, ME
0743 | Barnstable-Yarmouth, MA | 1.2335
| Barnstable, MA
0760 | Baton Rouge, LA | 0.8354
| Ascension, LA
| East Baton Rouge, LA
| Livingston, LA
| West Baton Rouge, LA
0840 | Beaumont-Port Arthur, TX | 0.8616
| Hardin, TX
| Jefferson, TX
| Orange, TX
0860 | Bellingham, WA | 1.1643
| Whatcom, WA
0870 | Benton Harbor, MI | 0.8847
| Berrien, MI
0875 | Bergen-Passaic, NJ | 1.1967
| Bergen, NJ
| Passaic, NJ
0880 | Billings, MT | 0.8961
| Yellowstone, MT
0920 | Biloxi-Gulfport-Pascagoula, MS | 0.8649
| Hancock, MS
| Harrison, MS
| Jackson, MS
0960 | Binghamton, NY | 0.8447
| Broome, NY
| Tioga, NY
1000 | Birmingham, AL | 0.9199
| Blount, AL
| Jefferson, AL
| St. Clair, AL
| Shelby, AL
1010 | Bismarck, ND | 0.7505
| Burleigh, ND
| Morton, ND
1020 | Bloomington, IN | 0.8588
| Monroe, IN
1040 | Bloomington-Normal, IL | 0.9111
| McLean, IL
1080 | Boise City, ID | 0.9352
| Ada, ID
| Canyon, ID
1123 | Boston-Worcester-Lawrence-Lowell-Brockton, MA-NH | 1.1291
| Bristol, MA
| Essex, MA
| Middlesex, MA
| Norfolk, MA
| Plymouth, MA
| Suffolk, MA
| Worcester, MA
| Hillsborough, NH
| Merrimack, NH
| Rockingham, NH
| Strafford, NH
1125 | Boulder-Longmont, CO | 1.0046
| Boulder, CO
1145 | Brazoria, TX | 0.8525
| Brazoria, TX
1150 | Bremerton, WA | 1.0614
| Kitsap, WA
1240 | Brownsville-Harlingen-San Benito, TX | 1.0125
| Cameron, TX
1260 | Bryan-College Station, TX | 0.9219
| Brazos, TX
1280 | Buffalo-Niagara Falls, NY | 0.9339
| Erie, NY
| Niagara, NY
1303 | Burlington, VT | 0.9322
| Chittenden, VT
| Franklin, VT
| Grand Isle, VT
1310 | Caguas, PR | 0.4061
| Caguas, PR
| Cayey, PR
| Cidra, PR
| Gurabo, PR
| San Lorenzo, PR
1320 | Canton-Massillon, OH | 0.8895
| Carroll, OH
| Stark, OH
1350 | Casper, WY | 0.9244
| Natrona, WY
1360 | Cedar Rapids, IA | 0.8975
| Linn, IA
1400 | Champaign-Urbana, IL | 0.9527
| Champaign, IL
1440 | Charleston-North Charleston, SC | 0.9420
| Berkeley, SC
| Charleston, SC
| Dorchester, SC
1480 | Charleston, WV | 0.8876
| Kanawha, WV
| Putnam, WV
1520 | Charlotte-Gastonia-Rock Hill, NC-SC | 0.9712
| Cabarrus, NC
| Gaston, NC
| Lincoln, NC
| Mecklenburg, NC
| Rowan, NC
| Stanley, NC
| Union, NC
| York, SC
1540 | Charlottesville, VA | 1.0295
| Albemarle, VA
| Charlottesville City, VA
| Fluvanna, VA
| Greene, VA
1560 | Chattanooga, TN-GA | 0.9207
| Catoosa, GA
| Dade, GA
| Walker, GA
| Hamilton, TN
| Marion, TN
1580 | Cheyenne, WY | 0.8980
| Laramie, WY
1600 | Chicago, IL | 1.0852
| Cook, IL
| DeKalb, IL
| DuPage, IL
| Grundy, IL
| Kane, IL
| Kendall, IL
| Lake, IL
| McHenry, IL
| Will, IL
1620 | Chico-Paradise, CA | 1.0543
| Butte, CA
1640 | Cincinnati, OH-KY-IN | 0.9595
| Dearborn, IN
| Ohio, IN
| Boone, KY
| Campbell, KY
| Gallatin, KY
| Grant, KY
| Kenton, KY
| Pendleton, KY
| Brown, OH
| Clermont, OH
| Hamilton, OH
| Warren, OH
1660 | Clarksville-Hopkinsville, TN-KY | 0.8022
| Christian, KY
| Montgomery, TN
1680 | Cleveland-Lorain-Elyria, OH | 0.9626
| Ashtabula, OH
| Cuyahoga, OH
| Geauga, OH
| Lake, OH
| Lorain, OH
| Medina, OH
1720 | Colorado Springs, CO | 0.9793
| El Paso, CO
1740 | Columbia, MO | 0.8396
| Boone, MO
1760 | Columbia, SC | 0.9450
| Lexington, SC
| Richland, SC
1800 | Columbus, GA-AL | 0.8690
| Russell, AL
| Chattahoochee, GA
| Harris, GA
| Muscogee, GA
1840 | Columbus, OH | 0.9753
| Delaware, OH
| Fairfield, OH
| Franklin, OH
| Licking, OH
| Madison, OH
| Pickaway, OH
1880 | Corpus Christi, TX | 0.8647
| Nueces, TX
| San Patricio, TX
1890 | Corvallis, OR | 1.0545
| Benton, OR
1900 | Cumberland, MD-WV | 0.8662
| Allegany, MD
| Mineral, WV
1920 | Dallas, TX | 1.0049
| Collin, TX
| Dallas, TX
| Denton, TX
| Ellis, TX
| Henderson, TX
| Hunt, TX
| Kaufman, TX
| Rockwall, TX
1950 | Danville, VA | 0.8643
| Danville City, VA
| Pittsylvania, VA
1960 | Davenport-Moline-Rock Island, IA-IL | 0.8774
| Scott, IA
| Henry, IL
| Rock Island, IL
2000 | Dayton-Springfield, OH | 0.9232
| Clark, OH
| Greene, OH
| Miami, OH
| Montgomery, OH
2020 | Daytona Beach, FL | 0.8900
| Flagler, FL
| Volusia, FL
2030 | Dacatur, AL | 0.8894
| Lawrence, AL
| Morgan, AL
2040 | Dacatur, IL | 0.8122
| Macon, IL
2080 | Denver, CO | 1.0905
| Adams, CO
| Arapahoe, CO
| Denver, CO
| Douglas, CO
| Jefferson, CO
2120 | Des Moines, IA | 0.9267
| Dallas, IA
| Polk, IA
| Warren, IA
2160 | Detroit, MI | 1.0227
| Lapeer, MI
| Macomb, MI
| Monroe, MI
| Oakland, MI
| St. Clair, MI
| Wayne, MI
2180 | Dothan, AL | 0.7597
| Dale, AL
| Houston, AL
2190 | Dover, DE | 0.9825
| Kent, DE
2200 | Dubuque, IA | 0.8748
| Dubuque, IA
2240 | Duluth-Superior, MN-WI | 1.0356
| St. Louis, MN
| Douglas, WI
2281 | Dutchess County, NY | 1.1658
| Dutchess, NY
2290 | Eau Claire, WI | 0.9139
| Chippewa, WI
| Eau Claire, WI
2320 | El Paso, TX | 0.9065
| El Paso, TX
2330 | Elkhart-Goshen, IN | 0.9279
| Elkhart, IN
2335 | Elmira, NY | 0.8445
| Chemung, NY
2340 | Enid, OK | 0.9001
| Garfield, OK
2360 | Erie, PA | 0.8699
| Erie, PA
2400 | Eugene-Springfield, OR | 1.0940
| Lane, OR
2440 | Evansville-Henderson, IN-KY | 0.8395
| Posey, IN
| Vanderburgh, IN
| Warrick, IN
| Henderson, KY
2520 | Fargo-Moorhead, ND-MN | 0.9115
| Clay, MN
| Cass, ND
2560 | Fayetteville, NC | 0.9363
| Cumberland, NC
2580 | Fayetteville-Springdale-Rogers, AR | 0.8637
| Benton, AR
| Washington, AR
2620 | Flagstaff, AZ-UT | 1.0611
| Coconino, AZ
| Kane, UT
2640 | Flint, MI | 1.1178
| Genesee, MI
2650 | Florence, AL | 0.7883
| Colbert, AL
| Lauderdale, AL
2655 | Florence, SC | 0.8961
| Florence, SC
2670 | Fort Collins-Loveland, CO | 1.0219
| Larimer, CO
2680 | Ft. Lauderdale, FL | 1.0165
| Broward, FL
2700 | Fort Myers-Cape Coral, FL | 0.9372
| Lee, FL
2710 | Fort Pierce-Port St. Lucie, FL | 1.0046
| Martin, FL
| St. Lucie, FL
2720 | Fort Smith, AR-OK | 0.8303
| Crawford, AR
| Sebastian, AR
| Sequoyah, OK
2750 | Fort Walton Beach, FL | 0.8786
| Okaloosa, FL
2760 | Fort Wayne, IN | 0.9737
| Adams, IN
| Allen, IN
| De Kalb, IN
| Huntington, IN
| Wells, IN
| Whitley, IN
2800 | Forth Worth-Arlington, TX | 0.9538
| Hood, TX
| Johnson, TX
| Parker, TX
| Tarrant, TX
2840 | Fresno, CA | 1.0408
| Fresno, CA
| Madera, CA
2880 | Gadsden, AL | 0.8049
| Etowah, AL
2900 | Gainesville, FL | 0.9459
| Alachua, FL
2920 | Galveston-Texas City, TX | 0.9403
| Galveston, TX
2960 | Gary, IN | 0.9343
| Lake, IN
| Porter, IN
2975 | Glens Falls, NY | 0.8467
| Warren, NY
| Washington, NY
2980 | Goldsboro, NC | 0.8779
| Wayne, NC
2985 | Grand Forks, ND-MN | 0.9092
| Polk, MN
| Grand Forks, ND
2995 | Grand Junction, CO | 0.9900
| Mesa, CO
3000 | Grand Rapids-Muskegon-Holland, MI | 0.9520
| Allegan, MI
| Kent, MI
| Muskegon, MI
| Ottawa, MI
3040 | Great Falls, MT | 0.8810
| Cascade, MT
3060 | Greeley, CO | 0.9444
| Weld, CO
3080 | Green Bay, WI | 0.9586
| Brown, WI
3120 | Greensboro-Winston-Salem-High Point, | 0.9312
| NC
| Alamance, NC
| Davidson, NC
| Davie, NC
| Forsyth, NC
| Guilford, NC
| Randolph, NC
| Stokes, NC
| Yadin, NC
3150 | Greenville, NC | 0.9183
| Pitt, NC
3160 | Greenville, Spartanburg-Anderson, SC | 0.9400
| Anderson, SC
| Cherokee, SC
| Greenville, SC
| Pickens, SC
| Spartanburg, SC
3180 | Hagerstown, MD | 0.9940
| Washington, MD
3200 | Hamilton-Middletown, OH | 0.9066
| Butler, OH
3240 | Harrisburg-Lebanon-Carlisle, PA | 0.9286
| Cumberland, PA
| Dauphin, PA
| Lebanon, PA
| Perry, PA
3283 | Hartford, CT | 1.1068
| Hartford, CT
| Litchfield, CT
| Middlesex, CT
| Tolland, CT
3285 | Hattiesburg, MS | 0.7362
| Forrest, MS
| Lamar, MS
3290 | Hickory-Morganton-Lenoir, NC | 0.9502
| Alexander, NC
| Burke, NC
| Caldwell, NC
| Catawaba, NC
3320 | Honolulu, HI | 1.1014
| Honolulu, HI
3350 | Houma, LA | 0.7721
| Lafourche, LA
| Terrebonne, LA
3360 | Houston, TX | 1.0117
| Chambers, TX
| Fort Bend, TX
| Harris, TX
| Liberty, TX
| Montgomery, TX
| Waller, TX
3400 | Huntington-Ashland, WV-KY-OH | 0.9565
| Boyd, KY
| Carter, KY
| Grenup, KY
| Lawrence, OH
| Cabell, WV
| Wayne, WV
3440 | Huntsville, AL | 0.8851
| Limestone, AL
| Madison, AL
3480 | Indianapolis, IN | 1.0039
| Boone, IN
| Hamilton, IN
| Hancoock, IN
| Hendricks, IN
| Johnson, IN
| Madison, IN
| Marion, IN
| Morgan, IN
| Shelby, IN
3500 | Iowa City, IA | 0.9655
| Johnson, IA
3520 | Jackson, MI | 0.9146
| Jackson, MI
3560 | Jackson, MS | 0.8406
| Hinds, MS
| Madison, MS
| Rankin MS
3580 | Jackson, TN | 0.8900
| Madison, TN
| Chester, TN
3600 | Jacksonville, FL | 0.9548
| Clay, FL
| Duval, FL
| Nassau, FL
| St. Johns, FL
3605 | Jacksonville, NC | 0.8402
| Onslow, NC
3610 | Jamestown, NY | 0.7589
| Chautauqua, NY
3620 | Janesville-Beloit, WI | 0.9583
| Rock, WI
3640 | Jersey City, NJ | 1.0923
| Hudson, NJ
3660 | Johnson City-Kingsport-Bristol, TN-VA | 0.8203
| Carter, TN
| Hawkins, TN
| Sullivan, TN
| Unicoi, TN
| Washington, TN
| Bristol City, VA
| Scott, VA
| Washington, VA
3680 | Johnstown, PA | 0.7981
| Cambria, PA
| Somerset, PA
3700 | Jonesboro, AR | 0.7934
| Craighead, AR
3710 | Joplin, MO | 0.8721
| Jasper, MO
| Newton, MO
3720 | Kalamazoo-Battlecreek, MI | 1.0350
| Calhoun, MI
| Kalamazoo, MI
| Van Buren, MI
3740 | Kankakee, IL | 1.0603
| Kankakee, IL
3760 | Kansas City, KS-MO | 0.9642
| Johnson, KS
| Leavenworth, KS
| Miami, KS
| Wyandotte, KS
| Cass, MO
| Clay, MO
| Clinton, MO
| Jackson, MO
| Lafayette, MO
| Platte, MO
| Ray, MO
3800 | Kenosha, WI | 0.9772
| Kenosha, WI
3810 | Killeen-Temple, TX | 0.9242
| Bell, TX
| Coryell, TX
3840 | Knoxville, TN | 0.8509
| Anderson, TN
| Blount, TN
| Knox, TN
| Loudon, TN
| Sevier, TN
| Union, TN
3850 | Kokomo, IN | 0.8986
| Howard, IN
| Tipton, IN
3870 | La Crosse, WI-MN | 0.9290
| Houston, MN
| La Crosse, WI
3880 | Lafayette, LA | 0.8105
| Acadia, LA
| Lafayette, LA
| St. Landry, LA
| St. Martin, LA
3920 | Lafayette, IN | 0.9068
| Clinton, IN
| Tippecanoe, IN
3960 | Lake Charles, LA | 0.7959
| Calcasieu, LA
3980 | Lakeland-Winter Haven, FL | 0.8931
| Polk, FL
4000 | Lancaster, PA | 0.9883
| Lancaster, PA
4040 | Lansing-East Lansing, MI | 0.9659
| Clinton, MI
| Eaton, MI
| Ingham, MI
4080 | Laredo, TX | 0.8747
| Webb, TX
4100 | Las Cruces, NM | 0.8784
| Dona Ana, NM
4120 | Las Vegas, NV-AZ | 1.1121
| Mohave, AZ
| Clark, NV
| Nye, NV
4150 | Lawrence, KS | 0.8644
| Douglas, KS
4200 | Lawton, OK | 0.8212
| Comanche, OK
4243 | Lewiston-Auburn, ME | 0.9562
| Androscoggin, ME
4280 | Lexington, KY | 0.8053
| Bourbon, KY
| Clark, KY
| Fayette, KY
| Jessamine, KY
| Madison, KY
| Scott, KY
| Woodford, KY
4320 | Lima, OH | 0.9258
| Allen, OH
| Auglaize, OH
4360 | Lincoln, NE | 1.0208
| Lancaster, NE
4400 | Little Rock-North Little Rock, AR | 0.8827
| Faulkner, AR
| Lonoke, AR
| Pulaski, AR
| Saline, AR
4420 | Longview-Marshall, TX | 0.8739
| Gregg, TX
| Harrison, TX
| Upshur, TX
4480 | Los Angeles-Long Beach, CA | 1.1732
| Los Angeles, CA
4520 | Louisville, KY-IN | 0.9163
| Clark, IN
| Floyd, IN
| Harrison, IN
| Scott, IN
| Bullitt, KY
| Jefferson, KY
| Oldham, KY
4600 | Lubbock, TX | 0.8777
| Lubbock, TX
4640 | Lynchburg, VA | 0.9018
| Amherst, VA
| Bedford, VA
| Bedford City, VA
| Campbell, VA
| Lynchburg City, VA
4680 | Macon, GA | 0.9596
| Bibb, GA
| Houston, GA
| Jones, GA
| Peach, GA
| Twiggs, GA
4720 | Madison, WI | 1.0395
| Dane, WI
4800 | Mansfield, OH | 0.9105
| Crawford, OH
| Richland, OH
4840 | Mayaguez, PR | 0.4769
| Anasco, PR
| Cabo Rojo, PR
| Hormigueros, PR
| Mayaguez, PR
| Sabana Grande, PR
| San German, PR
4880 | McAllen-Edinburg-Mission, TX | 0.8602
| Hidalgo, TX
4890 | Medford-Ashland, OR | 1.0534
| Jackson, OR
4900 | Melbourne-Titusville-Palm Bay, FL | 0.9633
| Brevard, FL
4920 | Memphis, TN-AR-MS | 0.9234
| Crittenden, AR
| DeSoto, MS
| Fayette, TN
| Shelby, TN
| Tipton, TN
4940 | Merced, CA | 1.0576
| Merced, CA
5000 | Miami, FL | 1.0026
| Dade, FL
5015 | Middlesex-Somerset-Hunterdon, NJ | 1.1360
| Hunterdon, NJ
| Middlesex, NJ
| Somerset, NJ
5080 | Milwaukee-Waukesha, WI | 1.0076
| Milwaukee, WI
| Ozaukee, WI
| Washington, WI
| Waukesha, WI
5120 | Minneapolis-St. Paul, MN-WI | 1.1067
| Anoka, MN
| Carver, MN
| Chisago, MN
| Dakota, MN
| Hennepin, MN
| Isanti, MN
| Ramsey, MN
| Scott, MN
| Sherburne, MN
| Washington, MN
| Wright, MN
| Pierce, WI
| St. Croix, WI
5140 | Missoula, MT | 0.9618
| Missoula, MT
5160 | Mobile, AL | 0.7933
| Baldwin, AL
| Mobile, AL
5170 | Modesto, CA | 1.1966
| Stanislaus, CA
5190 | Monmouth-Ocean, NJ | 1.0889
| Monmouth, NJ
| Ocean, NJ
5200 | Monroe, LA | 0.7913
| Ouachita, LA
5240 | Montgomery, AL | 0.8300
| Autauga, AL
| Elmore, AL
| Montgomery, AL
5280 | Muncie, IN | 0.8580
| Delaware, IN
5330 | Myrtle Beach, SC | 0.9022
| Horry, SC
5345 | Naples, FL | 1.0596
| Collier, FL
5360 | Nashville, TN | 1.0108
| Cheatham, TN
| Davidson, TN
| Dickson, TN
| Robertson, TN
| Rutherford, TN
| Sumner, TN
| Williamson, TN
| Wilson, TN
5380 | Nassau-Suffolk, NY | 1.2921
| Nassau, NY
| Suffolk, NY
5483 | New Haven-Bridgeport-Stamford-Waterbury-Danbury, CT | 1.2254
| Fairfield, CT
| New Haven, CT
5523 | New London-Norwich, CT | 1.1596
| New London, CT
5560 | New Orleans, LA | 0.9103
| Jefferson, LA
| Orleans, LA
| Plaquemines, LA
| St. Bernard, LA
| St. Charles, LA
| St. James, LA
| St. John The Baptist, LA
| St. Tammany, LA
5600 | New York, NY | 1.3588
| Bronx, NY
| Kings, NY
| New York, NY
| Putnam, NY
| Queens, NY
| Richmond, NY
| Rockland, NY
| Westchester, NY
5640 | Newark, NJ | 1.1625
| Essex, NJ
| Morris, NJ
| Sussex, NJ
| Union, NJ
| Warren, NJ
5660 | Newburgh, NY-PA | 1.1171
| Orange, NY
| Pike, PA
| Wage
| MSA Urban area (constituent counties) index
5720 | Norfolk-Virginia Beach-Newport News, VA-NC | 0.8895
| Currituck, NC
| Chesapeake City, VA
| Gloucester, VA
| Hampton City, VA
| Isle of Wight, VA
| James City, VA
| Mathews, VA
| Newport News City, VA
| Norfolk City, VA
| Poquoson City, VA
| Portsmouth City, VA
| Suffolk City, VA
| Virginia Beach City VA
| Williamsburg City, VA
| York, VA
5775 | Oakland, CA | 1.5221
| Alameda, CA
| Contra Costa, CA
5790 | Ocala, FL | 0.9153
| Marion, FL
5800 | Odessa-Midland, TX | 0.9632
| Ector, TX
| Midland, TX
5880 | Oklahoma City, OK | 0.8966
| Canadian, OK
| Cleveland, OK
| Logan, OK
| McClain, OK
| Oklahoma, OK
| Pottawatomie, OK
5910 | Olympia, WA | 1.1007
| Thurston, WA
5920 | Omaha, NE-IA | 0.9754
| Pottawattamie, IA
| Cass, NE
| Douglas, NE
| Sarpy, NE
| Washington, NE
5945 | Orange County, CA | 1.1612
| Orange, CA
5960 | Orlando, FL | 0.9742
| Lake, FL
| Orange, FL
| Osceola, FL
| Seminole, FL
5990 | Owensboro, KY | 0.8434
| Daviess, KY
6015 | Panama City, FL | 0.8124
| Bay, FL
6020 | Parkersburg-Marietta, WV-OH | 0.8288
| Washington, OH
| Wood, WV
6080 | Pensacola, FL | 0.8306
| Escambia, FL
| Santa Rosa, FL
6120 | Peoria-Pekin, IL | 0.8886
| Peoria, IL
| Tazewell, IL
| Woodford, IL
6160 | Philadelphia, PA-NJ | 1.0824
| Burlington, NJ
| Camden, NJ
| Gloucester, NJ
| Salem, NJ
| Bucks, PA
| Chester, PA
| Delaware, PA
| Mongtomery, PA
| Philadelphia, PA
6200 | Phoenix-Mesa, AZ | 0.9982
| Maricopa, AZ
| Pinal, AZ
6240 | Pine Bluff, AR | 0.8673
| Jefferson, AR
6280 | Pittsburgh, PA | 0.8756
| Allegheny, PA
| Beaver, PA
| Butler, PA
| Fayette, PA
| Washington, PA
| Westmoreland, PA
6323 | Pittsfield, MA | 1.0439
| Berkshire, MA
6340 | Pocatello, ID | 0.9602
| Bannock, ID
6360 | Ponce, PR | 0.4954
| Guayanilla, PR
| Juana Diaz, PR
| Penuelas, PR
| Ponce, PR
| Villalba, PR
| Yauco, PR
6403 | Portland, ME | 1.0112
| Cumberland, ME
| Sagadahoc, ME
| York, ME
6440 | Portland-Vancouver, OR-WA | 1.1403
| Clackamas, OR
| Columbia, OR
| Multnomah, OR
| Washington, OR
| Yamhill, OR
| Clark, WA
6483 | Providence-Warwick-Pawtucket, RI | 1.1062
| Bristol, RI
| Kent, RI
| Newport, RI
| Providence, RI
| Washington, RI
6520 | Provo-Orem, UT | 0.9613
| Utah, UT
6560 | Pueblo, CO | 0.8752
| Pueblo, CO
6580 | Punta Gorda, FL | 0.9441
| Charlotte, FL
6600 | Racine, WI | 0.9045
| Racine, WI
6640 | Raleigh-Durham-Chapel Hill, NC | 1.0258
| Chatham, NC
| Durham, NC
| Franklin, NC
| Johnston, NC
| Orange, NC
| Wake, NC
6660 | Rapid City, SD | 0.8912
| Pennington, SD
6680 | Reading, PA | 0.9216
| Berks, PA
6690 | Redding, CA | 1.1835
| Shasta, CA
6720 | Reno, NV | 1.0456
| Washoe, NV
6740 | Richland-Kennewick-Pasco, WA | 1.0520
| Benton, WA
| Franklin, WA
6760 | Richmond-Petersburg, VA | 0.9398
| Charles City County, VA
| Chesterfield, VA
| Colonia Heights City, VA
| Dinwiddie, VA
| Goochland, VA
| Hanover, VA
| Henrico, VA
| Hopewell City, VA
| New Kent, VA
| Petersburg City, VA
| Powhatan, VA
| Prince George, VA
| Richmond City, VA
6780 | Riverside-San Bernardino, CA | 1.0975
| Riverside, CA
| San Bernardino, CA
6800 | Roanoke, VA | 0.8429
| Botetourt, VA
| Roanoke, VA
| Roanoke City, VA
| Salem City, VA
6820 | Rochester, MN | 1.1504
| Olmsted, MN
6840 | Rochester, NY | 0.9196
| Genesee, NY
| Livingston, NY
| Monroe, NY
| Ontario, NY
| Orleans, NY
| Wayne, NY
6880 | Rockford, IL | 0.9626
| Boone, IL
| Ogle, IL
| Winnebago, IL
6895 | Rocky Mount, NC | 0.8998
| Edgecombe, NC
| Nash, NC
6920 | Sacramento, CA | 1.1849
| El Dorado, CA
| Placer, CA
| Sacramento, CA
6960 | Saginaw-Bay City-Midland, MI | 0.9696
| Bay, MI
| Midland, MI
| Saginaw, MI
6980 | St. Cloud, MN | 1.0215
| Benton, MN
| Stearns, MN
7000 | St. Joseph, MO | 1.0013
| Andrew, MO
| Buchanan, MO
7040 | St. Louis, MO-IL | 0.9081
| Clinton, IL
| Jersey, IL
| Madison, IL
| Monroe, IL
| St. Clair, IL
| Franklin, MO
| Jefferson, MO
| Lincoln, MO
| St. Charles, MO
| St. Louis, MO
| St. Louis City, MO
| Warren, MO
7080 | Salem, OR | 1.0557
| Marion, OR
| Polk, OR
7120 | Salinas, CA | 1.3823
| Monterey, CA
7160 | Salt Lake City-Ogden, UT | 0.9487
| Davis, UT
| Salt Lake, UT
| Weber, UT
7200 | San Angelo, TX | 0.8168
| Tom Green, TX
7240 | San Antonio, TX | 0.9023
| Bexar, TX
| Comal, TX
| Guadalupe, TX
| Wilson, TX
7320 | San Diego, CA | 1.1267
| San Diego, CA
7360 | San Francisco, CA | 1.4712
| Marin, CA
| San Francisco, CA
| San Mateo, CA
7400 | San Jose, CA | 1.4744
| Santa Clara, CA
7440 | San Juan-Bayamon, PR | 0.4802
| Aguas Buenas, PR
| Barceloneta, PR
| Bayamon, PR
| Canovanas, PR
| Carolina, PR
| Catano, PR
| Ceiba, PR
| Comerio, PR
| Corozal, PR
| Dorado, PR
| Fajardo, PR
| Florida, PR
| Guaynabo, PR
| Humacao, PR
| Juncos, PR
| Los Piedras, PR
| Loiza, PR
| Luguillo, PR
| Manati, PR
| Morovis, PR
| Naguabo, PR
| Naranjito, PR
| Rio Grande, PR
| San Juan, PR
| Toa Alta, PR
| Toa Baja, PR
| Trujillo Alto, PR
| Vega Alta, PR
| Vega Baja, PR
| Yabucoa, PR
7460 | San Luis Obispo-Atascadero-Paso | 1.1118
| Robles, CA
| San Luis Obispo, CA
7480 | Santa Barbara-Santa Maria-Lompoc, CA | 1.0771
| Santa Barbara, CA
7485 | Santa Cruz-Watsonville, CA | 1.4780
| Santa Cruz, CA
7490 | Santa Fe, NM | 1.0590
| Los Alamos, NM
| Santa Fe, NM
7500 | Santa Rosa, CA | 1.2962
| Sonoma, CA
7510 | Sarasota-Bradenton, FL | 0.9630
| Manatee, FL
| Sarasota, FL
7520 | Savannah, GA | 0.9460
| Bryan, GA
| Chatham, GA
| Effingham, GA
7560 | Scranton-Wilkes-Barre-Hazleton, PA | 0.8523
| Columbia, PA
| Lackawanna, PA
| Luzerne, PA
| Wyoming, PA
7600 | Seattle-Bellevue-Everett, WA | 1.1479
| Island, WA
| King, WA
| Snohomish, WA
7610 | Sharon, PA | 0.7881
| Mercer, PA
7620 | Sheboygan, WI | 0.8949
| Sheboygan, WI
7640 | Sherman-Denison, TX | 0.9617
| Grayson, TX
7680 | Shreveport-Bossier City, LA | 0.9112
| Bossier, LA
| Caddo, LA
| Webster, LA
7720 | Sioux City, IA-NE | 0.9094
| Woodbury, IA
| Dakota, NE
7760 | Sioux Falls, SD | 0.9441
| Lincoln, SD
| Minnehaha, SD
7800 | South Bend, IN | 0.9447
| St. Joseph, IN
7840 | Spokane, WA | 1.0661
| Spokane, WA
7880 | Springfield, IL | 0.8738
| Menard, IL
| Sangamon, IL
7920 | Springfield, MO | 0.8597
| Christian, MO
| Greene, MO
| Webster, MO
8003 | Springfield, MA | 1.0174
| Hampden, MA
| Hampshire, MA
8050 | State College, PA | 0.8462
| Centre, PA
8080 | Steubenville-Weirton, OH-WV | 0.8281
| Jefferson, OH
| Brooke, WV
| Hancock, WV
8120 | Stockton-Lodi, CA | 1.0564
| San Joaquin, CA
8140 | Sumter, SC | 0.8520
| Sumter, SC
8160 | Syracuse, NY | 0.9394
| Cayuga, NY
| Madison, NY
| Onondaga, NY
| Oswego, NY
8200 | Tacoma, WA | 1.1078
| Pierce, WA
8240 | Tallahassee, FL | 0.8656
| Gadsden, FL
| Leon, FL
8280 | Tampa-St. Petersburg-Clearwater, FL | 0.9024
| Hernando, FL
| Hillsborough, FL
| Pasco, FL
| Pinellas, FL
8320 | Terre Haute, IN | 0.8582
| Clay, IN
| Vermillion, IN
| Vigo, IN
8360 | Texarkana, AR-Texarkana, TX | 0.8414
| Miller, AR
| Bowie, TX
8400 | Toledo, OH | 0.9525
| Fulton, OH
| Lucas, OH
| Wood, OH
8440 | Topeka, KS | 0.8904
| Shawnee, KS
8480 | Trenton, NJ | 1.0276
| Mercer, NJ
8520 | Tucson, AZ | 0.8926
| Pima, AZ
8560 | Tulsa, OK | 0.8729
| Creek, OK
| Osage, OK
| Rogers, OK
| Tulsa, OK
| Wagoner, OK
8600 | Tuscaloosa, AL | 0.8440
| Tuscaloosa, AL
8640 | Tyler, TX | 0.9502
| Smith, TX
8680 | Utica-Rome, NY | 0.8295
| Herkimer, NY
| Oneida, NY
8720 | Vallejo-Fairfield-Napa, CA | 1.3517
| Napa, CA
| Solano, CA
8735 | Ventura, CA | 1.1105
| Ventura, CA
8750 | Victoria, TX | 0.8469
| Victoria, TX
8760 | Vineland-Millville-Bridgeton, NJ | 1.0573
| Cumberland, NJ
8780 | Visalia-Tulare-Porterville, CA | 0.9964
| Tulare, CA
8800 | Waco, TX | 0.8146
| McLennan, TX
8840 | Washington, DC-MD-VA-WV | 1.0971
| District of Columbia, DC
| Calvert, MD
| Charles, MD
| Frederick, MD
| Montgomery, MD
| Prince Georges, MD
| Alexandria City, VA
| Arlington, VA
| Clarke, VA
| Culpeper, VA
| Fairfax, VA
| Fairfax City, VA
| Falls Church City, VA
| Fauquier, VA
| Fredericksburg City, VA
| King George, VA
| Loudoun, VA
| Manassas City, VA
| Manassas Park City, VA
| Prince William, VA
| Spotsylvania, VA
| Stafford, VA
| Warren, VA
| Berkeley, WV
| Jefferson, WV
8920 | Waterloo-Cedar Falls, IA | 0.8633
| Black Hawk, IA
8940 | Wausau, WI | 0.9570
| Marathon, WI
8960 | West Palm Beach-Boca Raton, FL | 1.0059
| Palm Beach, FL
9000 | Wheeling, WV-OH | 0.7449
| Belmont, OH
| Marshall, WV
| Ohio, WV
9040 | Wichita, KS | 0.9473
| Butler, KS
| Harvey, KS
| Sedgwick, KS
9080 | Wichita Falls, TX | 0.8395
| Archer, TX
| Wichita, TX
9140 | Williamsport, PA | 0.8486
| Lycoming, PA
9160 | Wilmington-Newark, DE-MD | 1.1121
| New Castle, DE
| Cecil, MD
9200 | Wilmington, NC | 0.9237
| New Hanover, NC
| Brunswick, NC
9260 | Yakima, WA | 1.0323
| Yakima, WA
9270 | Yolo, CA | 0.9378
| Yolo, CA
9280 | York, PA | 0.9150
| York, PA
9320 | Youngstown-Warren, OH | 0.9518
| Columbiana, OH
| Mahoning, OH
| Trumbull, OH
9340 | Yuba City, CA | 1.0364
| Sutter, CA
| Yuba, CA
9360 | Yuma, AZ | 0.8871
| Yuma, AZ

Addendum C.—Comparison of Pre-Floor and Pre-Reclassified Hospital Wage Index for FY 2003 and Proposed CY 2005
Rural area | FY 2003 wage index | Proposed CY 2005 wage index | Percent change, FY 2003- proposed CY 2005
ALABAMA | 0.7660 | 0.7637 | -0.30
ALASKA | 1.2293 | 1.1637 | -5.34
ARIZONA | 0.8493 | 0.9140 | 7.62
ARKANSAS | 0.7666 | 0.7704 | 0.50
CALIFORNIA | 0.9840 | 1.0297 | 4.64
COLORADO | 0.9015 | 0.9368 | 3.92
CONNECTICUT | 1.2394 | 1.1586 | -6.52
DELAWARE | 0.9128 | 0.9504 | 4.12
FLORIDA | 0.8814 | 0.8789 | -0.28
GEORGIA | 0.8230 | 0.8247 | 0.21
GUAM | 0.9611 | 0.9611 | 0.00
HAWAII | 1.0255 | 1.0522 | 2.60
IDAHO | 0.8747 | 0.8826 | 0.90
ILLINOIS | 0.8204 | 0.8341 | 1.67
INDIANA | 0.8755 | 0.8736 | -0.22
IOWA | 0.8315 | 0.8550 | 2.83
KANSAS | 0.7923 | 0.8088 | 2.08
KENTUCKY | 0.8079 | 0.7844 | -2.91
LOUISIANA | 0.7567 | 0.7291 | -3.65
MAINE | 0.8874 | 0.9039 | 1.86
MARYLAND | 0.8946 | 0.9179 | 2.60
MASSACHUSETTS | 1.1288 | 1.0217 | -9.49
MICHIGAN | 0.9000 | 0.8741 | -2.88
MINNESOTA | 0.9151 | 0.9339 | 2.05
MISSISSIPPI | 0.7680 | 0.7583 | -1.26
MISSOURI | 0.8021 | 0.7829 | -2.39
MONTANA | 0.8481 | 0.8701 | 2.59
NEBRASKA | 0.8204 | 0.9035 | 10.13
NEVADA | 0.9577 | 0.9833 | 2.67
NEW HAMPSHIRE | 0.9796 | 0.9940 | 1.47
New Jersey |  |
NEW MEXICO | 0.8872 | 0.8529 | -3.87
NEW YORK | 0.8542 | 0.8403 | -1.63
NORTH CAROLINA | 0.8666 | 0.8501 | -1.90
NORTH DAKOTA | 0.7788 | 0.7743 | -0.58
OHIO | 0.8613 | 0.8760 | 1.71
OKLAHOMA | 0.7590 | 0.7537 | -0.70
OREGON | 1.0303 | 1.0050 | -2.46
PENNSYLVANIA | 0.8462 | 0.8348 | -1.35
PUERTO RICO | 0.4356 | 0.4047 | -7.09
RHODE ISLAND |  |  |
SOUTH CAROLINA | 0.8607 | 0.8640 | 0.38
SOUTH DAKOTA | 0.7815 | 0.8393 | 7.40
TENNESSEE | 0.7877 | 0.7876 | -0.01
TEXAS | 0.7821 | 0.7910 | 1.14
UTAH | 0.9312 | 0.8843 | -5.04
VERMONT | 0.9345 | 0.9375 | 0.32
VIRGINIA | 0.8504 | 0.8480 | -0.28
VIRGIN ISLANDS | 0.7845 | 0.7457 | -4.95
WASHINGTON | 1.0179 | 1.0072 | -1.05
WEST VIRGINIA | 0.7975 | 0.8084 | 1.37
WISCONSIN | 0.9162 | 0.9498 | 3.67
WYOMING | 0.9007 | 0.9182 | 1.94

Urban MSA | FY 2003 wage index | Proposed CY 2005 wage index | Percent change, FY 2003- proposed CY 2005
0040 | 0.7792 | 0.8009 | 2.78
0060 | 0.4587 | 0.4294 | -6.39
0080 | 0.9600 | 0.9055 | -5.68
0120 | 1.0594 | 1.1266 | 6.34
0160 | 0.8384 | 0.8570 | 2.22
0200 | 0.9315 | 1.0485> | 12.56
0220 | 0.7859 | 0.8171 | 3.97
0240 | 0.9735 | 0.9536 | -2.04
0280 | 0.9225 | 0.8462 | -8.27
0320 | 0.9034 | 0.9178 | 1.59
0380 | 1.2358 | 1.2109 | -2.01
0440 | 1.1103 | 1.0817 | -2.58
0450 | 0.8044 | 0.7881 | -2.03
0460 | 0.8997 | 0.9115 | 1.31
0470 | 0.4337 | 0.3757 | -13.37
0480 | 0.9876 | 0.9502 | -3.79
0500 | 1.0211 | 1.0203 | -0.08
0520 | 0.9991 | 0.9971 | -0.20
0560 | 1.1017 | 1.0907 | -1.00
0580 | 0.8325 | 0.8215 | -1.32
0600 | 1.0264 | 0.9208 | -10.29
0640 | 0.9637 | 0.9596 | -0.43
0680 | 0.9899 | 1.0036 | 1.38
0720 | 0.9929 | 0.9908 | -0.21
0733 | 0.9664 | 0.9955 | 3.01
0743 | 1.3202 | 1.2335 | -6.57
0760 | 0.8294 | 0.8354 | 0.72
0840 | 0.8324 | 0.8616 | 3.51
0860 | 1.2282 | 1.1643 | -5.20
0870 | 0.9042 | 0.8847 | -2.16
0875 | 1.2150 | 1.1967 | -1.51
0880 | 0.9022 | 0.8961 | -0.68
0920 | 0.8757 | 0.8649 | -1.23
0960 | 0.8341 | 0.8447 | 1.27
1000 | 0.9222 | 0.9199 | -0.25
1010 | 0.7972 | 0.7505 | -5.86
1020 | 0.8907 | 0.8588 | -3.58
1040 | 0.9109 | 0.9111 | 0.02
1080 | 0.9310 | 0.9352 | 0.45
1123 | 1.1235 | 1.1291 | 0.50
1125 | 0.9689 | 1.0046 | 3.68
1145 | 0.8535 | 0.8525 | -0.12
1150 | 1.0944 | 1.0614 | -3.02
1240 | 0.8880 | 1.0125 | 14.02
1260 | 0.8821 | 0.9219 | 4.51
1280 | 0.9365 | 0.9339 | -0.28
1303 | 1.0052 | 0.9322 | -7.26
1310 | 0.4371 | 0.4061 | -7.09
1320 | 0.8932 | 0.8895 | -0.41
1350 | 0.9690 | 0.9244 | -4.60
1360 | 0.9056 | 0.8975 | -0.89
1400 | 1.0635 | 0.9527 | -10.42
1440 | 0.9235 | 0.9420 | 2.00
1480 | 0.8898 | 0.8876 | -0.25
1520 | 0.9850 | 0.9712 | -1.40
1540 | 1.0438 | 1.0295 | -1.37
1560 | 0.8976 | 0.9207 | 2.57
1580 | 0.8628 | 0.8980 | 4.08
1600 | 1.1044 | 1.0852 | -1.74
1620 | 0.9745 | 1.0543 | 8.19
1640 | 0.9381 | 0.9595 | 2.28
1660 | 0.8406 | 0.8022 | -4.57
1680 | 0.9670 | 0.9626 | -0.46
1720 | 0.9916 | 0.9793 | -1.24
1740 | 0.8496 | 0.8396 | -1.18
1760 | 0.9307 | 0.9450 | 1.54
1800 | 0.8374 | 0.8690 | 3.77
1840 | 0.9751 | 0.9753 | 0.02
1880 | 0.8729 | 0.8647 | -0.94
1890 | 1.1453 | 1.0545 | -7.93
1900 | 0.7847 | 0.8662 | 10.39
1920 | 0.9998 | 1.0049 | 0.51
1950 | 0.8859 | 0.8643 | -2.44
1960 | 0.8835 | 0.8774 | -0.69
2000 | 0.9282 | 0.9232 | -0.54
2020 | 0.9062 | 0.8900 | -1.79
2030 | 0.8973 | 0.8894 | -0.88
2040 | 0.8055 | 0.8122 | 0.83
2080 | 1.0601 | 1.0905 | 2.87
2120 | 0.8791 | 0.9267 | 5.41
2160 | 1.0448 | 1.0227 | -2.12
2180 | 0.8137 | 0.7597 | -6.64
2190 | 0.9356 | 0.9825 | 5.01
2200 | 0.8795 | 0.8748 | -0.53
2240 | 1.0368 | 1.0356 | -0.12
2281 | 1.0684 | 1.1658 | 9.12
2290 | 0.8952 | 0.9139 | 2.09
2320 | 0.9265 | 0.9065 | -2.16
2330 | 0.9722 | 0.9279 | -4.56
2335 | 0.8416 | 0.8445 | 0.34
2340 | 0.8376 | 0.9001 | 7.46
2360 | 0.8925 | 0.8699 | -2.53
2400 | 1.0944 | 1.0940 | -0.04
2440 | 0.8177 | 0.8395 | 2.67
2520 | 0.9684 | 0.9115 | -5.88
2560 | 0.8889 | 0.9363 | 5.33
2580 | 0.8100 | 0.8637 | 6.63
2620 | 1.0682 | 1.0611 | -0.66
2640 | 1.1135 | 1.1178 | 0.39
2650 | 0.7792 | 0.7883 | 1.17
2655 | 0.8780 | 0.8961 | 2.06
2670 | 1.0066 | 1.0219 | 1.52
2680 | 1.0297 | 1.0165 | -1.28
2700 | 0.9680 | 0.9372 | -3.18
2710 | 0.9823 | 1.0046 | 2.27
2720 | 0.7895 | 0.8303 | 5.17
2750 | 0.9693 | 0.8786 | -9.36
2760 | 0.9457 | 0.9737 | 2.96
2800 | 0.9446 | 0.9538 | 0.97
2840 | 1.0216 | 1.0408 | 1.88
2880 | 0.8505 | 0.8049 | -5.36
2900 | 0.9871 | 0.9459 | -4.17
2920 | 0.9465 | 0.9403 | -0.66
2960 | 0.9584 | 0.9343 | -2.51
2975 | 0.8281 | 0.8467 | 2.25
2980 | 0.8892 | 0.8779 | -1.27
2985 | 0.8897 | 0.9092 | 2.19
2995 | 0.9456 | 0.9900 | 4.70
3000 | 0.9525 | 0.9520 | -0.05
3040 | 0.8950 | 0.8810 | -1.56
3060 | 0.9237 | 0.9444 | 2.24
3080 | 0.9502 | 0.9586 | 0.88
3120 | 0.9282 | 0.9312 | 0.32
3150 | 0.9100 | 0.9183 | 0.91
3160 | 0.9122 | 0.9400 | 3.05
3180 | 0.9268 | 0.9940 | 7.25
3200 | 0.9418 | 0.9066 | -3.74
3240 | 0.9223 | 0.9286 | 0.68
3283 | 1.1549 | 1.1068 | -4.16
3285 | 0.7659 | 0.7362 | -3.88
3290 | 0.9028 | 0.9502 | 5.25
3320 | 1.1457 | 1.1014 | -3.87
3350 | 0.8385 | 0.7721 | -7.92
3360 | 0.9892 | 1.0117 | 2.27
3400 | 0.9636 | 0.9565 | -0.74
3440 | 0.8903 | 0.8851 | -0.58
3480 | 0.9717 | 1.0039 | 3.31
3500 | 0.9587 | 0.9655 | 0.71
3520 | 0.9532 | 0.9146 | -4.05
3560 | 0.8607 | 0.8406 | -2.34
3580 | 0.9275 | 0.8900 | -4.04
3600 | 0.9381 | 0.9548 | 1.78
3605 | 0.8239 | 0.8402 | 1.98
3610 | 0.7976 | 0.7589 | -4.85
3620 | 0.9849 | 0.9583 | -2.70
3640 | 1.1190 | 1.0923 | -2.39
3660 | 0.8268 | 0.8203 | -0.79
3680 | 0.8329 | 0.7981 | -4.18
3700 | 0.7749 | 0.7934 | 2.39
3710 | 0.8613 | 0.8721 | 1.25
3720 | 1.0595 | 1.0350 | -2.31
3740 | 1.0790 | 1.0603 | -1.73
3760 | 0.9736 | 0.9642 | -0.97
3800 | 0.9686 | 0.9772 | 0.89
3810 | 1.0399 | 0.9242 | -11.13
3840 | 0.8970 | 0.8509 | -5.14
3850 | 0.8971 | 0.8986 | 0.17
3870 | 0.9400 | 0.9290 | -1.17
3880 | 0.8475 | 0.8105 | -4.37
3920 | 0.9278 | 0.9068 | -2.26
3960 | 0.7965 | 0.7959 | -0.08
3980 | 0.9357 | 0.8931 | -4.55
4000 | 0.9078 | 0.9883 | 8.87
4040 | 0.9726 | 0.9659 | -0.69
4080 | 0.8472 | 0.8747 | 3.25
4100 | 0.8745 | 0.8784 | 0.45
4120 | 1.1521 | 1.1121 | -3.47
4150 | 0.7923 | 0.8644 | 9.10
4200 | 0.8315 | 0.8212 | -1.24
4243 | 0.9179 | 0.9562 | 4.17
4280 | 0.8581 | 0.8053 | -6.15
4320 | 0.9483 | 0.9258 | -2.37
4360 | 0.9892 | 1.0208 | 3.19
4400 | 0.9097 | 0.8827 | -2.97
4420 | 0.8629 | 0.8739 | 1.27
4480 | 1.2001 | 1.1732 | -2.24
4520 | 0.9276 | 0.9163 | -1.22
4600 | 0.9646 | 0.8777 | -9.01
4640 | 0.9219 | 0.9018 | -2.18
4680 | 0.9204 | 0.9596 | 4.26
4720 | 1.0467 | 1.0395 | -0.69
4800 | 0.8900 | 0.9105 | 2.30
4840 | 0.4914 | 0.4769 | -2.95
4880 | 0.8428 | 0.8602 | 2.06
4890 | 1.0498 | 1.0534 | 0.34
4900 | 1.0253 | 0.9633 | -6.05
4920 | 0.8920 | 0.9234 | 3.52
4940 | 0.9837 | 1.0576 | 7.51
5000 | 0.9802 | 1.0026 | 2.29
5015 | 1.1213 | 1.1360 | 1.31
5080 | 0.9893 | 1.0076 | 1.85
5120 | 1.0903 | 1.1067 | 1.50
5140 | 0.9157 | 0.9618 | 5.03
5160 | 0.8108 | 0.7933 | -2.16
5170 | 1.0498 | 1.1966 | 13.98
5190 | 1.0674 | 1.0889 | 2.01
5200 | 0.8137 | 0.7913 | -2.75
5240 | 0.7734 | 0.8300 | 7.32
5280 | 0.9284 | 0.8580 | -7.58
5330 | 0.8976 | 0.9022 | 0.51
5345 | 0.9754 | 1.0596 | 8.63
5360 | 0.9578 | 1.0108 | 5.53
5380 | 1.3357 | 1.2921 | -3.26
5483 | 1.2408 | 1.2254 | -1.24
5523 | 1.1767 | 1.1596 | -1.45
5560 | 0.9046 | 0.9103 | 0.63
5600 | 1.4414 | 1.3588 | -5.73
5640 | 1.1381 | 1.1625 | 2.14
5660 | 1.1387 | 1.1171 | -1.90
5720 | 0.8574 | 0.8895 | 3.74
5775 | 1.5072 | 1.5221 | 0.99
5790 | 0.9402 | 0.9153 | -2.65
5800 | 0.9397 | 0.9632 | 2.50
5880 | 0.8900 | 0.8966 | 0.74
5910 | 1.0960 | 1.1007 | 0.43
5920 | 0.9978 | 0.9754 | -2.24
5945 | 1.1474 | 1.1612 | 1.20
5960 | 0.9640 | 0.9742 | 1.06
5990 | 0.8344 | 0.8434 | 1.08
6015 | 0.8865 | 0.8124 | -8.36
6020 | 0.8127 | 0.8288 | 1.98
6080 | 0.8645 | 0.8306 | -3.92
6120 | 0.8739 | 0.8886 | 1.68
6160 | 1.0713 | 1.0824 | 1.04
6200 | 0.9820 | 0.9982 | 1.65
6240 | 0.7962 | 0.8673 | 8.93
6280 | 0.9365 | 0.8756 | -6.50
6323 | 1.0235 | 1.0439 | 1.99
6340 | 0.9372 | 0.9602 | 2.45
6360 | 0.5169 | 0.4954 | -4.16
6403 | 0.9794 | 1.0112 | 3.25
6440 | 1.0667 | 1.1403 | 6.90
6483 | 1.0854 | 1.1062 | 1.92
6520 | 0.9984 | 0.9613 | -3.72
6560 | 0.8820 | 0.8752 | -0.77
6580 | 0.9218 | 0.9441 | 2.42
6600 | 0.9334 | 0.9045 | -3.10
6640 | 0.9990 | 1.0258 | 2.68
6660 | 0.8846 | 0.8912 | 0.75
6680 | 0.9295 | 0.9216 | -0.85
6690 | 1.1135 | 1.1835 | 6.29
6720 | 1.0648 | 1.0456 | -1.80
6740 | 1.1491 | 1.0520 | -8.45
6760 | 0.9477 | 0.9398 | -0.83
6780 | 1.1365 | 1.0975 | -3.43
6800 | 0.8614 | 0.8429 | -2.15
6820 | 1.2139 | 1.1504 | -5.23
6840 | 0.9194 | 0.9196 | 0.02
6880 | 0.9625 | 0.9626 | 0.01
6895 | 0.9228 | 0.8998 | -2.49
6920 | 1.1500 | 1.1849 | 3.03
6960 | 0.9650 | 0.9696 | 0.48
6980 | 0.9700 | 1.0215 | 5.31
7000 | 0.8021 | 1.0013 | 24.83
7040 | 0.8855 | 0.9081 | 2.55
7080 | 1.0367 | 1.0557 | 1.83
7120 | 1.4623 | 1.3823 | -5.47
7160 | 0.9945 | 0.9487 | -4.61
7200 | 0.8374 | 0.8168 | -2.46
7240 | 0.8753 | 0.9023 | 3.08
7320 | 1.1131 | 1.1267 | 1.22
7360 | 1.4142 | 1.4712 | 4.03
7400 | 1.4145 | 1.4744 | 4.23
7440 | 0.4741 | 0.4802 | 1.29
7460 | 1.1271 | 1.1118 | -1.36
7480 | 1.0481 | 1.0771 | 2.77
7485 | 1.3646 | 1.4780 | 8.31
7490 | 1.0712 | 1.0590 | -1.14
7500 | 1.3046 | 1.2962 | -0.64
7510 | 0.9425 | 0.9630 | 2.18
7520 | 0.9376 | 0.9460 | 0.90
7560 | 0.8599 | 0.8523 | -0.88
7600 | 1.1474 | 1.1479 | 0.04
7610 | 0.7869 | 0.7881 | 0.15
7620 | 0.8697 | 0.8949 | 2.90
7640 | 0.9255 | 0.9617 | 3.91
7680 | 0.8987 | 0.9112 | 1.39
7720 | 0.9046 | 0.9094 | 0.53
7760 | 0.9257 | 0.9441 | 1.99
7800 | 0.9802 | 0.9447 | -3.62
7840 | 1.0852 | 1.0661 | -1.76
7880 | 0.8659 | 0.8738 | 0.91
7920 | 0.8424 | 0.8597 | 2.05
8003 | 1.0927 | 1.0174 | -6.89
8050 | 0.8941 | 0.8462 | -5.36
8080 | 0.8804 | 0.8281 | -5.94
8120 | 1.0506 | 1.0564 | 0.55
8140 | 0.8273 | 0.8520 | 2.99
8160 | 0.9714 | 0.9394 | -3.29
8200 | 1.0940 | 1.1078 | 1.26
8240 | 0.8504 | 0.8656 | 1.79
8280 | 0.9065 | 0.9024 | -0.45
8320 | 0.8599 | 0.8582 | -0.20
8360 | 0.8088 | 0.8414 | 4.03
8400 | 0.9810 | 0.9525 | -2.91
8440 | 0.9199 | 0.8904 | -3.21
8480 | 1.0432 | 1.0276 | -1.50
8520 | 0.8911 | 0.8926 | 0.17
8560 | 0.8332 | 0.8729 | 4.76
8600 | 0.8130 | 0.8440 | 3.81
8640 | 0.9521 | 0.9502 | -0.20
8680 | 0.8465 | 0.8295 | -2.01
8720 | 1.3354 | 1.3517 | 1.22
8735 | 1.1096 | 1.1105 | 0.08
8750 | 0.8756 | 0.8469 | -3.28
8760 | 1.0031 | 1.0573 | 5.40
8780 | 0.9429 | 0.9964 | 5.67
8800 | 0.8073 | 0.8146 | 0.90
8840 | 1.0851 | 1.0971 | 1.11
8920 | 0.8069 | 0.8633 | 6.99
8940 | 0.9782 | 0.9570 | -2.17
8960 | 0.9939 | 1.0059 | 1.21
9000 | 0.7670 | 0.7449 | -2.88
9040 | 0.9520 | 0.9473 | -0.49
9080 | 0.8498 | 0.8395 | -1.21
9140 | 0.8544 | 0.8486 | -0.68
9160 | 1.1173 | 1.1121 | -0.47
9200 | 0.9640 | 0.9237 | -4.18
9260 | 1.0569 | 1.0323 | -2.33
9270 | 0.9434 | 0.9378 | -0.59
9280 | 0.9026 | 0.9150 | 1.37
9320 | 0.9358 | 0.9518 | 1.71
9340 | 1.0276 | 1.0364 | 0.86
9360 | 0.8589 | 0.8871 | 3.28

III. Waiver of Proposed Rulemaking

We ordinarily publish a notice of proposed rulemaking in the Federal Register to provide a period for public comment before the provisions of a Notice such as this takes effect. We can waive this procedure, however, if we find good cause that notice and comment procedure is impracticable, unnecessary, or contrary to the public interest and incorporate a statement of the finding and the reasons for it into the notice issued.

We find it unnecessary to undertake notice and comment rulemaking because this notice merely provides technical corrections to the regulations and makes no substantive changes to the regulation. Therefore, we find good cause to waive notice and comment procedures.

(Catalog of Federal Domestic Assistance Program No. 93.773, Medicare—Hospital Insurance; and Program No. 93.774, Medicare—Supplementary Medical Insurance Program)
Ann C. Agnew,
Executive Secretary to the Department.

[FR Doc. 04-17417 Filed 7-29-04; 8:45 am]

BILLING CODE 4120-01-P